DEPARTMENT OF ENERGY

Federal Energy Regulatory Commission

[Docket No. ER00-2416-000]

Entergy Services, Inc.; Notice of Filing

May 10, 2000.

Take notice that on May 8, 2000, pursuant to Section 205 of the Federal Power Act, 16 U.S.C. § 824d and 18 CFR Part 35, Entergy Services, Inc. (ESI), tendered for filing a three-month (June 1, 2000 through August 31, 2000) Transaction Agreement between Entergy Gulf States, Inc., (EGS), as seller, and ESI, as buyer, on behalf of those of the Entergy Operating Companies which have authority to enter into this Transaction Agreement (ESI and said Entergy Operating Companies collectively hereinafter referred to as “Entergy”).

Entergy requests waiver of the 60-day notice requirement of section 35.3 of FERC's regulations, 18 CFR 35.3, to allow the Transaction Agreement to become effective June 1, 2000.

Entergy has served a copy of this filing on its state and local regulatory commissions.

Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions and protests should be filed on or before May 19, 2000. Protests will be considered by the Commission to determine the appropriate action to be taken, but will not serve to make protestants parties to the proceedings. Any person wishing to become a party must file a motion to intervene. Copies of this filing are on file with the Commission and are available for public inspection. This filing may also be viewed on the Internet at http://www.ferc.fed.us/online/rims.htm (call 202-208-2222 for assistance).

Linwood A. Watson, Jr.,
Acting Secretary.

[FR Doc. 00-12217 Filed 5-15-00; 8:45 am]

BILLING CODE 6717-01-M